SMALL BUSINESS ADMINISTRATION

[Disaster Declaration #17751 and #17752; GEORGIA Disaster Number GA-00150]

Administrative Declaration of a Disaster for the State of Georgia

AGENCY: U.S. Small Business Administration.

ACTION: Notice.

SUMMARY: This is a notice of an Administrative declaration of a disaster for the State of Georgia dated 01/09/2023.

Incident: Flooding.

Incident Period: 09/03/2022 through 09/04/2022.

DATES: Issued on 01/09/2023.

Physical Loan Application Deadline Date: 03/10/2023.

Economic Injury (EIDL) Loan Application Deadline Date: 10/09/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington DC 20416, (202) 205-6734.

SUPPLEMENTARY INFORMATION: Notice is hereby given that as a result of the Administrator's disaster declaration, applications for disaster loans may be filed at the address listed above or other locally announced locations.

The following areas have been determined to be adversely affected by the disaster:

Primary Counties: Chattooga.

Contiguous Counties:

Georgia: Floyd, Walker.

Alabama: Cherokee, De Kalb.

The Interest Rates are:

| Percent
For Physical Damage:
Homeowners with Credit Available Elsewhere | 4.375
Homeowners without Credit Available Elsewhere | 2.188
Businesses with Credit Available Elsewhere | 6.080
Businesses without Credit Available Elsewhere | 3.040
Non-Profit Organizations with Credit Available Elsewhere | 1.875
Non-Profit Organizations without Credit Available Elsewhere | 1.875
For Economic Injury:
Businesses & Small Agricultural Cooperatives without Credit Available Elsewhere | 3.040
Non-Profit Organizations without Credit Available Elsewhere | 1.875

The number assigned to this disaster for physical damage is 17751 6 and for economic injury is 17752 0.

The States which received an EIDL Declaration # are Alabama, Georgia.

(Catalog of Federal Domestic Assistance Number 59008)

Isabella Guzman,
Administrator.

[FR Doc. 2023-00566 Filed 1-12-23; 8:45 am]

BILLING CODE 8026-09-P